ENVIRONMENTAL PROTECTION AGENCY

[EPA-HQ-OPPT-2016-0696; FRL-9956-40]

Certain New Chemicals; Receipt and Status Information for November 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from November 1, 2016 to November 30, 2016.

DATES: Comments identified by the specific case number provided in this document, must be received on or before January 17, 2017.

ADDRESSES: Submit your comments, identified by docket identification (ID) number EPA-HQ-OPPT-2016-2016-0696, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from November 1, 2016 to November 30, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 147 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From November 1, 2016 to November 30, 2016
Case No. | Received date | Projected notice end date | Manufacturer importer | Use | Chemical
P-16-0300 | 11/2/2016 | 1/31/2017 | H.B. Fuller Company | (G) Industrial adhesive | (G) Oxirane, 2-methyl-, polymer with 1,3-xylylene diisocyanate, oxirane, and 3-(trimethoxysilyl)propyl isocyanate.
P-16-0359 | 11/9/2016 | 2/7/2017 | CBI | (G) Pigment additive for industrial coatings | (G) Carbopolycycle-bis(diazonium), dihalo-, chloride (1:2), reaction products with metal hydroxide, 4-[(dioxoalkyl)amino]substituted benzene, 2-[(dioxoalkyl)amino]substituted benzene, 5-[(dioxoalkyl)amino]-2-hydroxy-substituted benzene and oxo-n-phenylalkanamide.
P-16-0379 | 11/16/2016 | 2/14/2017 | Wacker Chemical Corporation | (G) Intermediate for polymer synthesis | (S) Silane, 1,1'-(l,2-ethanediyl)bis[1,1-dichloro-1-methyl-, hydrolysis products with chloroethenyldimethylsilane.
P-16-0387 | 11/1/2016 | 1/30/2017 | CBI | (G) Additives for polymers | (G) Aliphatic polycarboxylic acid, polymer with alicyclic polyhydric alcohol and polyoxyalkylene.
P-16-0399 | 11/22/2016 | 2/20/2017 | Tryeco, LLC | (S) Compound to be used in preparation of advanced seed coatings | (S) Starch, polymer with 2-propenoic acid, potassium salt oxidized.
P-16-0399 | 11/22/2016 | 2/20/2017 | Tryeco, LLC | (S) Agricultural soil amendment for turf applications and direct soil injection with fertilizers | (S) Starch, polymer with 2-propenoic acid, potassium salt oxidized.
P-16-0399 | 11/22/2016 | 2/20/2017 | Tryec, LLC | (S) Agricultural soil amendment for filed crops as agrisorb plus granular soil amendment | (S) Starch, polymer with 2-propenoic acid, potassium salt oxidized.
P-16-0412 | 11/18/2016 | 2/16/2017 | Cardolite Corporation | (G) Epoxy coating | (G) Cashew, nutshell liq., polymer with amine and formaldehyde.
P-16-0428 | 11/21/2016 | 2/19/2017 | Cardolite Corporation | (S) Industrial | (G) Phenol, formaldehyde and amine.
P-16-0439 | 11/15/2016 | 2/13/2017 | CBI | (G) Coloring agent | (G) Modified carbon black.
P-16-0440 | 11/15/2016 | 2/13/2017 | CBI | (G) Coloring agent | (G) Modified carbon black.
P-16-0454 | 11/16/2016 | 2/14/2017 | CBI | (G) Material for highly dispersive use in consumer products | (G) Trisubstituted alkenol.
P-16-0487 | 11/18/2016 | 2/16/2017 | CBI | (S) Mass coloration of paper | (G) Benzenesulfonic acid 1,2-diazenediylbis[6-ethenyl]-3-sulfophenyl diazenyl-2-sulfophenyl ethenyl salt.
P-16-0509 | 11/18/2016 | 2/16/2017 | CBI | (G) For packaging application | (G) Modified ethylene-vinyl alcohol copolymer.
P-16-0509 | 11/18/2016 | 2/16/2017 | CBI | (G) Resin or film/sheet for the industrial use | (G) Modified ethylene-vinyl alcohol copolymer.
P-16-0578 | 11/10/2016 | 2/8/2017 | CBI | (G) Reactive polymer for waterborne coating applications | (G) Alkenoic acid, alkyester, polymer with n-(dialkyl-oxoalkyl)-alkenamide, alkenylbenzene, alkyl alkenoate and alkenoic acid.
P-16-0595 | 11/15/2016 | 2/13/2017 | CBI | (G) Polymer | (G) Polyether polyurethane.
P-16-0598 | 11/15/2016 | 2/13/2017 | CBI | (G) Binder resin open non-dispersive use | (G) Styrene acrylate copolymer.
P-16-0599 | 11/15/2016 | 2/13/2017 | CBI | (G) Binder resin open non-dispersive use | (G) Styrene acrylate copolymer.
P-17-0002 | 11/10/2016 | 2/8/2017 | CBI | (G) Printing ink applications | (G) Styrene(ated) copolymer with alkyl(meth)acrylate, and (meth)acrylic acid.
P-17-0003 | 11/10/2016 | 2/8/2017 | CBI | (G) Printing ink applications | (G) Styrene(ated) copolymer with alkyl(meth)acrylate, and (meth)acrylic acid.
P-17-0006 | 11/1/2016 | 1/30/2017 | CBI | (S) Aerospace sealant | (G) Substituted, polymer with formaldehyde, glycidyl ether, reaction products with alkyl substituted-dioxa thio substituted ether diene, dioxaalkyl substituted thiol, alkylene substituted vinyl ether, alkyl cyclohexane.
P-17-0008 | 11/2/2016 | 1/31/2017 | CBI | (S) Intermediate for use in the manufacture of polymers | (G) Modified 1,3-isobenzofurandione, polymer with 1,2-ethanediol, 2-ethyl-2-(alkoxyalkyl)-1,3-propanediol and 1,3-isobenzofurandione, alkanoate.
P-17-0013 | 11/2/2016 | 1/31/2017 | CBI | (G) Open dispersive use component in liquid paint coating | (G) Formaldehyde, polymer with arylylpolyamine, 2-(chloromethyl)oxirane and phenol.
P-17-0026 | 11/3/2016 | 2/1/2017 | CBI | (G) Industrial ink printing applications | (G) Cycloaliphatic diamine, polymer with .alpha-hydro-.omega.-hydroxypoly(oxy-alkanediyl), .alpha-hydro-.omega.-hydroxypoly(oxy-alkanediyl), and cycloaliphatic diisocyanate.
P-17-0027 | 11/9/2016 | 2/7/2017 | CBI | (G) Industrial use of printing ink | (G) Diol polymer with .alpha.-hydro-.omega.-hydroxypoly[oxy(alkanediyl)] and aromatic diisocyante.
P-17-0028 | 11/4/2016 | 2/2/2017 | Henkel Corporation | (S) One ingredient in the part a of a two component epoxy encapsulant designed for circuit board protection applications called loctite stycast 2750t kit | (S) Fatty acid, castor oil, reaction products with epichlorohydrin.
P-17-0030 | 11/3/2016 | 2/1/2017 | CBI | (G) Metalworking fluid additive | (G) Alkyl morpholine.
P-17-0031 | 11/1/2016 | 1/30/2017 | CBI | (G) Paint raw material | (G) Unsaturated fatty acids polymer with polyalcohol, carboxylic anhydrides and dicarboxlic acid.
P-17-0033 | 11/3/2016 | 2/1/2017 | Spectrum Tracer Services | (G) Monitoring of oil/gas well performance | (G) Halogenated sodium benzoate salt.
P-17-0034 | 11/3/2016 | 2/1/2017 | Spectrum Tracer Services | (G) Monitoring of oil/gas well performance | (G) Halogenated sodium benzoate salt.
P-17-0035 | 11/18/2016 | 2/16/2017 | Spectrum Tracer Services | (G) Monitoring of oil/gas well performance | (G) Halogenated benzoic acid.
P-17-0036 | 11/3/2016 | 2/1/2017 | Spectrum Tracer Services | (G) Monitoring of oil/gas well performance | (G) Halogenated sodium benzoate salt.
P-17-0037 | 11/18/2016 | 2/16/2017 | Spectrum Tracer Services | (G) Monitoring of oil/gas well performance | (G) Halogenated benzoic acid.
P-17-0038 | 11/3/2016 | 2/1/2017 | Spectrum Tracer Services | (G) Monitoring of oil/gas well performance | (G) Halogenated sodium benzoate salt.
P-17-0039 | 11/3/2016 | 2/1/2017 | Spectrum Tracer Services | (G) Monitoring of oil/gas well performance | (G) Halogenated sodium benzoate salt.
P-17-0040 | 11/18/2016 | 2/16/2017 | Spectrum Tracer Services | (G) Monitoring of oil/gas well performance | (G) Halogenated benzoic acid.
P-17-0041 | 11/3/2016 | 2/1/2017 | Spectrum Tracer Services | (G) Monitoring of oil/gas well performance | (G) Halogenated sodium benzoate salt.
P-17-0042 | 11/3/2016 | 2/1/2017 | Spectrum Tracer Services | (G) Monitoring of oil/gas well performance | (G) Halogenated sodium benzoate salt.
P-17-0043 | 11/3/2016 | 2/1/2017 | Spectrum Tracer Services | (G) Monitoring of oil/gas well performance | (G) Halogenated sodium benzoate salt.
P-17-0044 | 11/18/2016 | 2/16/2017 | Spectrum Tracer Services | (G) Monitoring of oil/gas well performance | (G) Halogenated benzoic acid.
P-17-0045 | 11/3/2016 | 2/1/2017 | Spectrum Tracer Services | (G) of oil/gas well performance Monitoring | (G) Halogenated sodium benzoate salt.
P-17-0046 | 11/18/2016 | 2/16/2017 | Spectrum Tracer Services | (G) Monitoring of oil/gas well performance | (G) Halogenated benzoic acid.
P-17-0047 | 11/3/2016 | 2/1/2017 | Spectrum Tracer Services | (G) Monitoring of oil/gas well performance | (G) Halogenated sodium benzoate salt.
P-17-0048 | 11/18/2016 | 2/16/2017 | Spectrum Tracer Services | (G) Monitoring of oil/gas well performance | (G) Halogenated benzoic acid.
P-17-0049 | 11/3/2016 | 2/1/2017 | CBI | (G) Starting material for synthesis | (G) Haloalkyl substituted carbomonocycle.
P-17-0050 | 11/3/2016 | 2/1/2017 | Spectrum Tracer Services | (G) Monitoring of oil/gas well performance | (G) Halogenated sodium benzoate salt.
P-17-0051 | 11/18/2016 | 2/16/2017 | Spectrum Tracer Services | (G) Monitoring of oil/gas well performance | (G) Halogenated benzoic acid.
P-17-0052 | 11/3/2016 | 2/1/2017 | Spectrum Tracer Services | (G) Monitoring of oil/gas well performance | (G) Halogenated sodium benzoate salt.
P-17-0053 | 11/18/2016 | 2/16/2017 | Spectrum Tracer Services | (G) Monitoring of oil/gas well performance | (G) Halogenated benzoic acid.
P-17-0054 | 11/18/2016 | 2/16/2017 | Spectrum Tracer Services | (G) Monitoring of oil/gas well performance | (G) Halogenated benzoic acid.
P-17-0055 | 11/4/2016 | 2/2/2017 | Spectrum Tracer Services | (G) Monitoring of oil/gas well performance | (G) Halogenated sodium benzoate salt.
P-17-0056 | 11/18/2016 | 2/16/2017 | Spectrum Tracer Services | (G) Monitoring of oil/gas well performance | (G) Halogenated benzoic acid.
P-17-0057 | 11/4/2016 | 2/2/2017 | Spectrum Tracer Services | (G) Monitoring of oil/gas well performance | (G) Halogenated sodium benzoate salt.
P-17-0058 | 11/18/2016 | 2/16/2017 | Spectrum Tracer Services | (G) Monitoring of oil/gas well performance | (G) Halogenated benzoic acid.
P-17-0059 | 11/4/2016 | 2/2/2017 | Spectrum Tracer Services | (G) Chemical tracer pumped into an oil or gas well to monitor well performance | (G) Halogenated sodium benzoate salt.
P-17-0060 | 11/18/2016 | 2/16/2017 | Spectrum Tracer Services | (G) Monitoring of oil/gas well performance | (G) Halogenated benzoic acid.
P-17-0061 | 11/4/2016 | 2/2/2017 | Spectrum Tracer Services | (G) Monitoring of oil/gas well performance | (G) Halogenated sodium benzoate salt.
P-17-0062 | 11/4/2016 | 2/2/2017 | Spectrum Tracer Services | (G) Monitoring of oil/gas well performance | (G) Halogenated sodium benzoate salt.
P-17-0063 | 11/4/2016 | 2/2/2017 | Spectrum Tracer Services | (G) Monitoring of oil/gas well performance | (G) Halogenated sodium benzoate salt.
P-17-0064 | 11/4/2016 | 2/2/2017 | Spectrum Tracer Services | (G) Monitoring of oil/gas well performance | (G) Halogenated sodium benzoate salt.
P-17-0065 | 11/18/2016 | 2/16/2017 | Spectrum Tracer Services | (G) Monitoring of oil/gas well performance | (G) Halogenated benzoic acid.
P-17-0066 | 11/4/2016 | 2/2/2017 | Spectrum Tracer Services | (G) Monitoring of oil/gas well performance | (G) Halogenated sodium benzoate salt.
P-17-0067 | 11/4/2016 | 2/2/2017 | Spectrum Tracer Services | (G) Monitoring of oil/gas well performance | (G) Halogenated sodium benzoate salt.
P-17-0068 | 11/18/2016 | 2/16/2017 | Spectrum Tracer Services | (G) Monitoring of oil/gas well performance | (G) Halogenated benzoic acid.
P-17-0069 | 11/4/2016 | 2/2/2017 | Spectrum Tracer Services | (G) Monitoring of oil/gas well performance | (G) Halogenated sodium benzoate salt.
P-17-0070 | 11/21/2016 | 2/19/2017 | Spectrum Tracer Services | (G) Monitoring of oil/gas well performance | (G) Halogenated benzoic acid.
P-17-0071 | 11/4/2016 | 2/2/2017 | Spectrum Tracer Services | (G) Monitoring Of Oil/Gas Well Performance | (G) Halogenated sodium benzoate salt.
P-17-0072 | 11/4/2016 | 2/2/2017 | Spectrum Tracer Services | (G) Monitoring of oil/gas well performance | (G) Halogenated sodium benzoate salt.
P-17-0073 | 11/4/2016 | 2/2/2017 | Spectrum Tracer Services | (G) Monitoring of oil/gas well performance | (G) Halogenated sodium benzoate salt.
P-17-0074 | 11/21/2016 | 2/19/2017 | Spectrum Tracer Services | (G) Monitoring of oil/gas well performance | (G) Halogenated benzoic acid.
P-17-0075 | 11/4/2016 | 2/2/2017 | Spectrum Tracer Services | (G) Monitoring of oil/gas well performance | (G) Halogenated sodium benzoate salt.
P-17-0076 | 11/4/2016 | 2/2/2017 | Spectrum Tracer Services | (G) Monitoring of oil/gas well performance | (G) Halogenated sodium benzoate salt.
P-17-0077 | 11/23/2016 | 2/21/2017 | Spectrum Tracer Services | (G) Monitoring of oil/gas well performance | (G) Halogenated benzoic acid.
P-17-0078 | 11/21/2016 | 2/19/2017 | Spectrum Tracer Services | (G) Monitoring of oil/gas well performance | (G) Halogenated benzoic acid.
P-17-0079 | 11/4/2016 | 2/2/2017 | Spectrum Tracer Services | (G) Monitoring of oil/gas well performance | (G) Halogenated sodium benzoate salt.
P-17-0080 | 11/4/2016 | 2/2/2017 | Spectrum Tracer Services | (G) Monitoring of oil/gas well performance | (G) Halogenated sodium benzoate salt.
P-17-0081 | 11/23/2016 | 2/21/2017 | Spectrum Tracer Services | (G) Monitoring of oil/gas well performance | (G) Halogenated benzoic acid.
P-17-0082 | 11/21/2016 | 2/19/2017 | Spectrum Tracer Services | (G) Monitoring of oil/gas well performance | (G) Halogenated benzoic acid.
P-17-0083 | 11/4/2016 | 2/2/2017 | Spectrum Tracer Services | (G) Monitoring of oil/gas well performance | (G) Halogenated sodium benzoate salt.
P-17-0084 | 11/23/2016 | 2/21/2017 | Spectrum Tracer Services | (G) Monitoring of oil/gas well performance | (G) Halogenated benzoic acid.
P-17-0085 | 11/4/2016 | 2/2/2017 | Spectrum Tracer Services | (G) Monitoring of oil/gas well performance | (G) Halogenated sodium benzoate salt.
P-17-0086 | 11/10/2016 | 2/8/2017 | CBI | (G) Perfume | (G) Cycloalkyl, bis(ethoxyalkyl)-, trans-cycloalkyl, bis(ethoxyalkyl)-, cis-.
P-17-0087 | 11/7/2016 | 2/5/2017 | Spectrum Tracer Services | (G) Monitoring of oil/gas well performance | (G) Halogenated sodium benzoate salt.
P-17-0090 | 11/7/2016 | 2/5/2017 | Spectrum Tracer Services | (G) Monitoring of oil/gas well performance | (G) Halogenated sodium benzoate salt.
P-17-0093 | 11/7/2016 | 2/5/2017 | Spectrum Tracer Services | (G) Monitoring of oil/gas well performance | (G) Halogenated sodium benzoate salt.
P-17-0094 | 11/7/2016 | 2/5/2017 | Spectrum Tracer Services | (S) Chemical tracer pumped into an oil or gas well to monitor well performance | (G) Halogenated benzoic acid ethyl ester.
P-17-0095 | 11/7/2016 | 2/5/2017 | Spectrum Tracer Services | (S) Chemical tracer pumped into an oil or gas well to monitor well performance | (G) Halogenated benzoic acid ethyl ester.
P-17-0096 | 11/7/2016 | 2/5/2017 | Spectrum Tracer Services | (S) Chemical tracer pumped into an oil or gas well to monitor well performance | (G) Halogenated benzoic acid ethyl ester.
P-17-0097 | 11/7/2016 | 2/5/2017 | Spectrum Tracer Services | (G) Monitoring of oil/gas well performance | (G) Halogenated benzoic acid.
P-17-0098 | 11/7/2016 | 2/5/2017 | Spectrum Tracer Services | (S) Chemical tracer pumped into an oil or gas well to monitor well performance | (G) Halogenated benzoic acid ethyl ester.
P-17-0099 | 11/7/2016 | 2/5/2017 | Spectrum Tracer Services | (S) Chemical tracer pumped into an oil or gas well to monitor well performance | (G) Halogenated benzoic acid ethyl ester.
P-17-0100 | 11/18/2016 | 2/16/2017 | Spectrum Tracer Services | (S) Chemical tracer pumped into an oil or gas well to monitor well performance | (G) Halogenated benzoic acid ethyl ester.
P-17-0101 | 11/8/2016 | 2/6/2017 | Spectrum Tracer Services | (S) Chemical tracer pumped into an oil or gas well to monitor well performance | (G) Halogenated benzoic acid ethyl ester.
P-17-0102 | 11/8/2016 | 2/6/2017 | Spectrum Tracer Services | (S) Chemical tracer pumped into an oil or gas well to monitor well performance | (G) Halogenated benzoic acid ethyl ester.
P-17-0103 | 11/8/2016 | 2/6/2017 | Spectrum Tracer Services | (S) Chemical tracer pumped into an oil or gas well to monitor well performance | (G) Halogenated benzoic acid ethyl ester.
P-17-0104 | 11/8/2016 | 2/6/2017 | Spectrum Tracer Services | (S) Chemical tracer pumped into an oil or gas well to monitor well performance | (G) Halogenated benzoic acid ethyl ester.
P-17-0105 | 11/8/2016 | 2/6/2017 | Spectrum Tracer Services | (S) Chemical tracer pumped into an oil or gas well to monitor well performance | (G) Halogenated benzoic acid ethyl ester.
P-17-0107 | 11/15/2016 | 2/13/2017 | CBI | (S) Coreactant used in an adhesive | (G) Hydroxyl terminated polyurethane of methylene diphenyldiisocyanate based on polyester and polyether-polyol.
P-17-0108 | 11/14/2016 | 2/12/2017 | Crison, LLC | (G) Typically added at a reat of 3-5% of the collector package | (S) Carbonodithioic acid, o-[2-[(dithiocarboxy)amino]-2-methylpropyl] ester, sodium salt (1:2).
P-17-0111 | 11/10/2016 | 2/8/2017 | CBI | (S) Ink receptor coating for polyolefin film | (S) Propanoic acid, 3-hydroxy-2-(hydroxymethyl)-2-methyl-, polymer with 1,4-cyclohexanedimethanol, dimethyl carbonate, 1,6-hexanediol, hydrazine and 1,1'-methylenebis[4-isocyanatocyclohexane], pentaerythritol triacrylate-blocked, compds. with triethylamine.
P-17-0112 | 11/16/2016 | 2/14/2017 | CBI | (S) Production moisture curing pu hot melts adhesive | (S) 1,4-benzenedicarboxylic acid, polymer with hexanedioic acid and 1,6-hexanediol.
P-17-0113 | 11/16/2016 | 2/14/2017 | Omg Americas, Inc | (S) Thickener for architectural paint | (S) Zirconium, acetate lactate sodium complexes.
P-17-0114 | 11/8/2016 | 2/6/2017 | Spectrum Tracer Services | (S) Chemical tracer pumped into an oil or gas well to monitor well performance | (G) Halogenated benzoic acid ethyl ester.
P-17-0115 | 11/16/2016 | 2/14/2017 | CBI | (S) An adhesion promoter for coating formulations | (G) Aminoalkyl alkoxysilane.
P-17-0117 | 11/17/2016 | 2/15/2017 | CBI | (S) Used as a feedstock for hydrogenation to produce a saturated diol for use in urethane chemistry or as an additive in coatings adhesives or sealants | (S) 1,6,10-dodecatriene, 7,11-dimethyl-3-methylene-, (6e)-, homopolymer, 2-hydroxypropyl-terminated.
P-17-0117 | 11/17/2016 | 2/15/2017 | CBI | (G) Use as a polyol for polyurethane manufacture reaction of the new substance with a diisocyanate or polyisocyanate and other polyols will produce a higher mw polymer | (S) 1,6,10-dodecatriene, 7,11-dimethyl-3-methylene-, (6e)-, homopolymer, 2-hydroxypropyl-terminated.
P-17-0118 | 11/17/2016 | 2/15/2017 | CBI | (S) Used as a feedstock for hydrogenation to produce a saturated diol for use in urethane chemistry or as An Additive In Coatings Adhesives Or Sealants | (S) 1,6,10-dodecatriene, 7,11-dimethyl-3-methylene-, (6e)-, homopolymer, 2-hydroxyethyl-terminated.
P-17-0118 | 11/17/2016 | 2/15/2017 | CBI | (G) Use as a polyol for polyurethane manufacture reaction of the new substance with a diisocyanate or polyisocyanate and other polyols will produce a higher mw polymer | (S) 1,6,10-dodecatriene, 7,11-dimethyl-3-methylene-, (6e)-, homopolymer, 2-hydroxyethyl-terminated.
P-17-0120 | 11/17/2016 | 2/15/2017 | CBI | (G) Component of coatings | (G) Amine modified alkyl phenol.
P-17-0121 | 11/18/2016 | 2/16/2017 | CBI | (S) Polyurethane used in an adhesive | (G) Methylene diphenyl diisocyanate terminated polyurethane resin.
P-17-0122 | 11/18/2016 | 2/16/2017 | Spectrum Tracer Services | (S) Chemical tracer pumped into an oil and/or gas well to monitor well performance | (G) Halogenated benzoic acid ethyl ester.
P-17-0123 | 11/18/2016 | 2/16/2017 | Spectrum Tracer Services | (S) Chemical tracer pumped into an oil and/or gas well to monitor well performance | (G) Halogenated benzoic acid ethyl ester.
P-17-0124 | 11/18/2016 | 2/16/2017 | Spectrum Tracer Services | (S) Chemical tracer pumped into an oil and/or gas well to monitor well performance | (G) Halogenated benzoic acid ethyl ester.
P-17-0125 | 11/18/2016 | 2/16/2017 | Spectrum Tracer Services | (S) Chemical tracer pumped into an oil and/or gas well to monitor well performance | (G) Halogenated benzoic acid ethyl ester.
P-17-0126 | 11/18/2016 | 2/16/2017 | Spectrum Tracer Services | (S) Chemical tracer pumped into an oil and/or gas well to monitor well performance | (G) Halogenated benzoic acid ethyl ester.
P-17-0127 | 11/18/2016 | 2/16/2017 | Spectrum Tracer Services | (S) Chemical tracer pumped into an oil and/or gas well to monitor well performance | (G) Halogenated benzoic acid ethyl ester.
P-17-0128 | 11/18/2016 | 2/16/2017 | Spectrum Tracer Services | (S) Chemical tracer pumped into an oil and/or gas well to monitor well performance | (G) Halogenated benzoic acid ethyl ester.
P-17-0129 | 11/18/2016 | 2/16/2017 | Spectrum Tracer Services | (S) Chemical tracer pumped into an oil and/or gas well to monitor well performance | (G) Halogenated benzoic acid ethyl ester.
P-17-0130 | 11/18/2016 | 2/16/2017 | Spectrum Tracer Services | (S) Chemical tracer pumped into an oil and/or gas well to monitor well performance | (G) Halogenated benzoic acid ethyl ester.
P-17-0131 | 11/18/2016 | 2/16/2017 | Spectrum Tracer Services | (S) Chemical tracer pumped into an oil and/or gas well to monitor well performance | (G) Halogenated benzoic acid ethyl ester.
P-17-0132 | 11/18/2016 | 2/16/2017 | Spectrum Tracer Services | (S) Chemical tracer pumped into an oil and/or gas well to monitor well performance | (G) Halogenated benzoic acid ethyl ester.
P-17-0133 | 11/18/2016 | 2/16/2017 | Spectrum Tracer Services | (S) Chemical tracer pumped into an oil and/or gas well to monitor well performance | (G) Halogenated benzoic acid ethyl ester.
P-17-0134 | 11/18/2016 | 2/16/2017 | Spectrum Tracer Services | (S) Chemical tracer pumped into an oil and/or gas well to monitor well performance | (G) Halogenated benzoic acid ethyl ester.
P-17-0135 | 11/18/2016 | 2/16/2017 | Spectrum Tracer Services | (S) Chemical tracer pumped into an oil and/or gas well to monitor well performance | (G) Halogenated benzoic acid ethyl ester.
P-17-0136 | 11/18/2016 | 2/16/2017 | Spectrum Tracer Services | (S) Chemical tracer pumped into an oil and/or gas well to monitor well performance | (G) Halogenated benzoic acid ethyl ester.
P-17-0137 | 11/18/2016 | 2/16/2017 | Spectrum Tracer Services | (S) Chemical tracer pumped into an oil and/or gas well to monitor well performance | (G) Halogenated benzoic acid ethyl ester.
P-17-0138 | 11/18/2016 | 2/16/2017 | Spectrum Tracer Services | (S) Chemical tracer pumped into an oil and/or gas well to monitor well performance | (G) Halogenated benzoic acid ethyl ester.
P-17-0139 | 11/18/2016 | 2/16/2017 | Spectrum Tracer Services | (S) Chemical tracer pumped into an oil and/or gas well to monitor well performance | (G) Halogenated benzoic acid ethyl ester.
P-17-0140 | 11/18/2016 | 2/16/2017 | Spectrum Tracer Services | (S) Chemical tracer pumped into an oil and/or gas well to monitor well performance | (G) Halogenated benzoic acid ethyl ester.
P-17-0141 | 11/18/2016 | 2/16/2017 | CBI | (G) Ingredient used in fertilizer manufacturing | (G) Substituted heteromonocycle, potassium salt.
P-17-0142 | 11/18/2016 | 2/16/2017 | CBI | (G) Ingredient Used In Fertilizer Manufacturing | (G) Substituted heteromonocycle, potassium salt.
P-17-0144 | 11/18/2016 | 2/16/2017 | CBI | (G) Coating component | (S) Amines, c36-alkylenedi-, polymers with octahydro-4,7-methano-1h-indenedimethanamine and pyromellitic dianhydride, maleated.
P-17-0145 | 11/21/2016 | 2/19/2017 | CBI | (G) Intermediate | (G) Silane ammonium salt.
P-17-0148 | 11/21/2016 | 2/19/2017 | Robertet, Inc | (S) As an odoriferous component of fragrance compounds | (S) Oils, hedychium flavescens.
P-17-0149 | 11/21/2016 | 2/19/2017 | CBI | (G) Electronic device use | (G) Fluorocyanophenyl alkylbenzoate.
P-17-0150 | 11/21/2016 | 2/19/2017 | CBI | (G) Electronic use | (G) Fluorocyanophenyl alkylbenzoate.
P-17-0150 | 11/21/2016 | 2/19/2017 | CBI | (G) Electronic device use | (G) Fluorocyanophenyl alkylbenzoate.
P-17-0151 | 11/21/2016 | 2/19/2017 | CBI | (G) Electronic device use | (G) Fluorocyanophenyl alkylbenzoate.
P-17-0152 | 11/28/2016 | 2/26/2017 | CBI | (G) Additive in home care products | (G) Poly-(2-methyl-1-oxo-2-propen-1-yl) ester with ethanaminium, n,n,n-trialkyl, chloride and methoxypoly(oxy-1,2-ethanediyl).
P-17-0153 | 11/23/2016 | 2/21/2017 | Clariant Corporation | (S) Neutralizing agent for paints and coatings | (S) D-glucitol, 1-deoxy-1-(dimethylamino)-.
P-17-0154 | 11/23/2016 | 2/21/2017 | CBI | (G) Coating | (G) Carboxylic acid amine (1:1).
P-17-0155 | 11/23/2016 | 2/21/2017 | CBI | (G) Coating | (G) Mix fatty acids compd with amine (1:1).
P-17-0156 | 11/23/2016 | 2/21/2017 | CBI | (G) Coating | (G) Mix fatty acids, compd with amine (1:1).
P-17-0157 | 11/29/2016 | 2/27/2017 | CBI | (G) Open, non-dispersive use and destructive use | (G) Silated urethane polymer.
P-17-0158 | 11/30/2016 | 2/28/2017 | Dayglo Color Corp | (G) Fluorescent dye | (G) Perylene bisimide.
P-17-0159 | 11/30/2016 | 2/28/2017 | CBI | (S) Tracer dye | (G) 1-h-benz[de] isoquinoline-1,3(2h)-dione-2-(-alkyl-)-(-alkyl-amino-).

For the 19 NOCs received by EPA during this period, Table 2 provides the following information (to the extent that such information is not claimed as CBI): The EPA case number assigned to the NOC; the date the NOC was received by EPA; the projected date of commencement provided by the submitter in the NOC; and the chemical identity.

Table 2—NOCs Received From November 1, 2016 to November 30, 2016
Case No. | Received date | Commencement date | Chemical
J-16-0006 | 11/23/2016 | 11/16/2016 | (G) Trichoderma reesei modified.
P-04-0856 | 11/3/2016 | 11/2/2016 | (G) Long chain alkyl sulfonic acids.
P-12-0578 | 11/18/2016 | 11/7/2016 | (G) Vegetable oil fatty acids, reaction products with substituted amine, compds. with substituted polyethylene glycol anhydride ester alkyl ethers.
P-13-0948 | 11/15/2016 | 8/31/2016 | (G) Fatty acid mixed ester, reaction products with phosphorous oxide (p2o5), amine salts.
P-14-0323 | 11/22/2016 | 10/11/2016 | (S) 1-propene, 2-chloro-3,3,3-trifluoro-.
P-14-0323 | 11/22/2016 | 10/12/2016 | (S) 1-propene, 2-chloro-3,3,3-trifluoro-.
P-14-0852 | 11/14/2016 | 7/25/2016 | (G) Alkanedioic acid, polymer with alkanediol, bis[n-[4-[(4-isocyanatophenyl)methyl]phenyl]carbamate].
P-15-0322 | 11/2/2016 | 9/26/2016 | (G) Poly[oxy(alkanediyl)],.alpha.,.alpha.′,.alpha.″-1,2,3-propanetriyltris[.omega.-(2-hydroxy-3-mercaptopropoxy)-.
P-15-0464 | 11/18/2016 | 10/31/2016 | (G) Polyfunctional aromatic polyester polyol.
P-15-0554 | 11/2/2016 | 10/7/2016 | (G) Dialkylamino alkylamide salt.
P-15-0619 | 11/2/2016 | 10/11/2016 | (G) Rosin ester cycloadduct.
P-16-0068 | 11/2/2016 | 10/6/2016 | (G) Dialkylamino alkylamide.
P-16-0117 | 11/2/2016 | 10/21/2016 | (S) Magnesium hydroxide hypochlorite oxide.
P-16-0242 | 11/14/2016 | 11/11/2016 | (S) Cyclopentanol, 1-ethyl-2-(3-methylbutyl)-.
P-16-0268 | 11/3/2016 | 10/20/2016 | (S) Fatty acids, c18-unsaturated, dimers, hydrogenated, polymers with n-[3-(dimethylamino)propyl] coco amides, n1,n1-dimethyl-1,3-propanediamine epichlorohydrin.
P-16-0343 | 11/18/2016 | 10/24/2016 | (G) Modified urethane polymer.
P-16-0373 | 11/16/2016 | 10/28/2016 | (S) Phenol, 2,2',2“-(1,3,5-triazine-2,4-6-triyl)tris[5-(hexyloxy)-6-methyl-.
P-16-0398 | 11/16/2016 | 11/16/2016 | (G) Di-ammonium di-carboxylate.
P-16-0455 | 11/7/2016 | 11/4/2016 | (S) Sodium tungsten oxide.

Authority: 15 U.S.C. 2601 et seq.

Dated: December 12, 2016.
Pamela Myrick,
Director, Information Management Division, Office of Pollution Prevention and Toxics.

[FR Doc. 2016-30325 Filed 12-15-16; 8:45 am]

BILLING CODE 6560-50-P